FEDERAL COMMUNICATIONS COMMISSION

47 CFR Part 73

[MB Docket No. 11-207; RM-11517; RM-11518; RM-11669; DA 13-228]

Radio Broadcasting Services; Ehrenberg, First Mesa, Kachina Village, Munds Park, Wickenburg, and Williams, Arizona

AGENCY: Federal Communications Commission.

ACTION: Final rule.

SUMMARY: The Media Bureau grants a Counterproposal filed by Grenax Broadcasting II, LLC, for a new FM allotment on Channel 246C2 at Munds Park, Arizona, over a conflicting Petition for Rule Making and hybrid application filed by Univision Radio License Corporation for an increase in existing service by Station KHOV-FM, Wickenburg, Arizona. The Bureau also dismisses a Petition for Rule Making filed by Rocket Radio, Inc. for a new allotment at Williams, Arizona, because no continuing expression of interest was filed.

DATES: Effective April 23, 2013.

FOR FURTHER INFORMATION CONTACT: Andrew J. Rhodes, Media Bureau, (202) 418-2700.

SUPPLEMENTARY INFORMATION: This is a synopsis of the Commission's Report and Order, MB Docket No. 11-207, adopted February 14, 2013, and released February 15, 2013. See also Notice of Proposed Rule Making and Order to Show Cause, 77 FR 2241, published January 17, 2012. The full text of this Commission decision is available for inspection and copying during normal business hours in the FCC's Reference Information Center at Portals II, CY-A257, 445 12th Street, SW., Washington, DC 20554. This document may also be purchased from the Commission's duplicating contractors, Best Copy and Printing, Inc., 445 12th Street, SW., Room CY-B402, Washington, DC 20554, telephone 1-800-378-3160 or via email www.BCPIWEB.com. The Commission will send a copy of this Report and Order in a report to be sent to Congress and the Governmental Accountability Office, pursuant to the Congressional Review Act, see 5 U.S.C. 801(a)(1)(A).

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

To accommodate the new allotment at Munds Park, the Bureau also substitutes Channel 281C for vacant Channel 247C at First Mesa, Arizona, at reference coordinates 35-41-09 NL and 110-21-43 WL. The reference coordinates for Channel 246C2 at Munds Park are 34-58-06 NL and 111-30-29 WL.

In comparing the new allotment at Munds Park and the proposed increase in existing service at Wickenburg, Arizona, the Bureau recognized that the Wickenburg proposal would provide a second full-time reception service to 264 persons. However, the Bureau found that this was de minimis and did not trigger Priority 2 of the FM Allotment Priorities. The Munds Park proposal was preferred over the Wickenburg proposal under Priority 4, other public interest matters. Although the increase in existing service at Wickenburg would provide third and fourth reception services to some underserved populations, the Bureau determined on balance that they do not outweigh the need for a second local or first competitive service at Munds Park.

List of Subjects in 47 CFR Part 73

Radio, Radio broadcasting.

Federal Communications Commission.
Nazifa Sawez,
Assistant Chief, Audio Division, Media Bureau.

As stated in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Arizona, is amended by removing Channel 247C at First Mesa and by adding Channel 281C at First Mesa, and by adding Munds Park, Channel 246C2.

[FR Doc. 2013-06307 Filed 3-18-13; 8:45 am]

BILLING CODE 6712-01-P